DEPARTMENT OF TRANSPORTATION

National Highway Traffic Safety Administration

49 CFR Part 571

[Docket No. NHTSA-2009-0108]

Final Vehicle Safety Rulemaking and Research Priority Plan 2011-2013

AGENCY: National Highway Traffic Safety Administration (NHTSA), Department of Transportation (DOT).

ACTION: Plan availability.

SUMMARY: This document announces the availability of the Final NHTSA Vehicle Safety and Fuel Economy Rulemaking and Research Priority Plan 2011-2013 (Priority Plan) in Docket No. NHTSA-2009-0108. This Priority Plan is an update to the Final Vehicle Safety Rulemaking and Research Priority Plan 2009-2011 (October 2009 Plan) that was announced in the November 9, 2009, edition of the Federal Register.

FOR FURTHER INFORMATION CONTACT: Joseph Carra, Director of Strategic Planning and Integration, National Highway Traffic Safety Administration, Room W45-336, 1200 New Jersey Avenue, SE., Washington, DC 20590. Telephone: 202-366-0361. E-mail: joseph.carra@dot.gov.

SUPPLEMENTARY INFORMATION: On November 9, 2009, NHTSA published a Final Notice in the Federal Register (74 FR 57623) announcing the availability of the October 2009 Plan. Today's document announces the availability of the Final NHTSA Vehicle Safety and Fuel Economy Rulemaking and Research Priority Plan 2011-2013.

This plan is an internal management tool as well as a means to communicate to the public NHTSA's highest priorities to meet the Nation's motor vehicle safety challenges. Among them are programs and projects involving rollover crashes, children (both inside as well as just near vehicles), motorcoaches and fuel economy that must meet Congressional mandates or Secretarial commitments. Since these are expected to consume a significant portion of the agency's rulemaking resources, they affect the schedules of the agency's other priorities listed in this plan. This plan lists the programs and projects the agency anticipates working on even though there may not be a rulemaking planned to be issued by 2013, and in several cases, the agency doesn't anticipate that the research will be done by the end of 2013. Thus, in some cases the next step would be an agency decision in 2013 or 2014.

For purposes of apprising the public on the status of progress relative to the efforts delineated in the October 2009 Plan, NHTSA has included in the current Priority Plan a section (Section V) that compares the October 2009 Plan to the current Priority Plan.

Interested persons may obtain a copy of the plan, “Final Vehicle Safety Rulemaking and Research Priority Plan 2011-2013,” by downloading a copy of the document. To download a copy of the document, go to http://www.regulations.gov and follow the online instructions, or visit Docket Management Facility at U.S. Department of Transportation, 1200 New Jersey Avenue, SE., West Building Ground Floor, Room W12-140, Washington, DC 20590-0001 and reference Docket No. NHTSA-2009-0108.

Authority: 49 U.S.C. 30111, 30117, 30168; delegation of authority at 49 CFR 1.50 and 501.8.

Ronald L. Medford,
Deputy Administrator.

[FR Doc. 2011-7433 Filed 3-30-11; 8:45 am]

BILLING CODE 4910-59-P